U.S. NUCLEAR REGULATORY COMMISSION

[Public Service Electric & Gas Company Atlantic City Electric Company Docket No. 50-354]

Notice of Withdrawal of Application for Amendment to Facility Operating License

The U.S. Nuclear Regulatory Commission (the Commission) has granted the request of Public Service Electric and Gas Company (the licensee) to withdraw its May 17, 1999, application as supplemented November 16, 1999, for proposed amendment to Facility Operating License No. NPF-57 for the Hope Creek Generating Station, located in Salem County, New Jersey.

The proposed amendment would have modified the facility technical specifications associated with the enabling of the Oscillation Power Range Monitor (OPRM) reactor protection system (RPS) trip function. The OPRM is designed to detect the onset of reactor core power oscillations resulting from thermal-hydraulic instability and suppresses them by initiating a reactor scram via the RPS trip logic. The Commission had previously issued a Notice of Consideration of Issuance of Amendment published in the Federal Register on June 16, 1999 (64 FR 32289). However, by letter dated January 7, 2000, the licensee withdrew the proposed change.

For further details with respect to this action, see the application for amendment dated May 17, 1999, as supplemented November 16, 1999, and the licensee's letter dated January 7, 2000, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 19th day of January 2000.
For The Nuclear Regulatory Commission.
Richard B. Ennis,
Project Manager, Section 2, Project Directorate I, Division of Licensing Project Management, Office of Nuclear Reactor Regulation.

[FR Doc. 00-1940 Filed 1-26-00; 8:45 am]

BILLING CODE 7590-01-U